ENVIRONMENTAL PROTECTION AGENCY

[FRL-7026-7]

EPA Science Advisory Board; Notification of Public Advisory Committee Meetings

Pursuant to the Federal Advisory Committee Act, Public Law 92-463, notice is hereby given that the National-Scale Air Toxics Assessment (NATA) Review Panel (hereafter, “NATA Review Panel”) of the USEPA Science Advisory Board's (SAB) Executive Committee (EC) will meet on August 29, 2001 from 11 a.m. to 1 p.m., Eastern Standard Time.

Purpose of the Meeting—The purpose of the meeting is for the NATA Review Panel to reach closure on its draft report in review of the EPA document entitled “National-Scale Air Toxics Assessment for 1996,” EPA-453/R-01-003, dated January 2001 and supporting appendices. This EPA document represents an initial national-scale assessment of the potential health risks associated with inhalation exposures to 32 air toxics identified as priority pollutants by the Agency's Integrated Urban Air Toxics Strategy, plus diesel emissions. The Panel will also accept brief oral comments on the following questions: (1) Has the NATA Review Panel adequately responded to the questions posed in the charge?; (2) Are any statements or responses made in the draft unclear?; and, (3) Are there any technical errors?

Supplementary Information—The teleconference will be hosted out of the EPA Science Advisory Board Conference Room (Room 6013), Ariel Rios Federal Building, 1200 Pennsylvania Avenue, NW., Washington, DC 20004. Interested members of the public may attend in person or connect to the teleconference by phone. More information about the previous meetings can be found in 66 FR 9846, February 12, 2001, 66 FR 24137, May 11, 2001, and 66 FR 28904, May 25, 2001.

After this August 29, 2001 conference call, the NATA review Panel intends to finalize the edits and forward the revised draft advisory to the SAB Executive Committee for final review and approval, prior to transmittal to the Agency. This EC review meeting will be announced in a subsequent Federal Register document.

Providing Comments—In accordance with the Federal Advisory Committee Act (FACA), the public and the Agency are invited to submit written or oral comments on the above three questions. The SAB will have a brief period available during the teleconference (no more than 15 minutes) for applicable oral public comment. Anyone wishing to make oral comments on the three focus questions above, but that are not duplicative of the written comments previously submitted on this topic, must contact Dr. K. Jack Kooyoomjian, Designated Federal Officer for the NATA Review Panel (see contact information below) in writing no later than August 22, 2001. In order to be accepted into the public record, all written comments must be received no later than the date of the meeting.

Availability of Review Materials—The NATA Report, the Appendices, and all briefing and presentation materials previously provided to the SAB may be obtained on the web at the following URL site: http://www.epa.gov/ttn/uatw/sab/sabrev.html/. Further information on obtaining the Agency's review document and supporting appendices is found in previous Federal Register notices (see citations above).

For Further Information—Any member of the public wishing further information concerning this meeting should contact Dr. K. Jack Kooyoomjian, Designated Federal Officer, US EPA Science Advisory Board (1400A), 1200 Pennsylvania Avenue, NW., Washington, DC 20460-0001; telephone (202) 564-4557; FAX (202) 501-0582; or via e-mail at kooyoomjian.jack@epa.gov. To obtain information on how to participate in the conference call, please contact Ms. Betty Fortune, EPA Science Advisory Board, Mail Code 1400A, U.S. Environmental Protection Agency, 1200 Pennsylvania Ave., NW., Washington, DC 20460. (Telephone (202) 564-4534, FAX (202) 501-0582; or via e-mail at fortune.betty@epa.gov). The SAB draft report and a draft meeting agenda for the teleconference will be posted on the SAB website (www.epa.gov/sab) approximately one week prior to the conference call.

Providing Oral or Written Comments at SAB Meetings

Please see the previous Federal Register documents (see citations above) for details on how to provide comments.

Meeting Access—Individuals requiring special accommodation at this meeting, including wheelchair access to the conference room, should contact the appropriate Dr. Kooyoomjian at least five business days prior to the meeting so that appropriate arrangements can be made.

Dated: July 27, 2001.
Donald G. Barnes,
Staff Director, EPA Science Advisory Board.

[FR Doc. 01-20216 Filed 8-10-01; 8:45 am]

BILLING CODE 6560-50-P